CONSUMER PRODUCT SAFETY COMMISSION

CPSC Safety Academy

AGENCY: Consumer Product Safety Commission.

ACTION: Notice.

SUMMARY: The Consumer Product Safety Commission (CPSC, Commission, or we) is announcing its intent to hold a one-day CPSC Safety Academy to discuss current regulatory requirements, including testing and certification, the mandatory toy standard, and compliance processes. We invite interested parties to participate in or attend the CPSC Safety Academy.

DATES: The CPSC Safety Academy will be held from 8:00 a.m. to 4:00 p.m. on September 18, 2013. Individuals interested in serving on panels or presenting information relevant to the agenda at the CPSC Safety Academy should advise the CPSC via email by June 10, 2013. All other individuals who wish to attend in person should register by September 9, 2013.

ADDRESSES: The CPSC Safety Academy will be held in Seattle, WA, at the Henry M. Jackson Federal Building on September 18, 2013. The Jackson Federal Building is located at the Seattle Metro Service Center, 915 2nd Avenue, in Seattle, WA 98174. Persons interested in serving on a panel or attending the CPSC Safety Academy should register online at http://www.cpsc.gov/meetingsignup, click on the link titled, “CPSC Seattle Safety Academy,” and follow applicable instructions.

FOR FURTHER INFORMATION CONTACT: Dean W. Woodard, Director, Office of Education, Global Outreach, and Small Business Ombudsman, 4330 East West Highway, Bethesda, MD 20814, 301-504-7651, dwoodard@cpsc.gov. To be considered for a panel, please email your information to: business@cpsc.gov.

SUPPLEMENTARY INFORMATION: The CPSC Safety Academy intends to bring together CPSC staff and stakeholders, including manufacturers, consumer advocates, academic researchers, and others, to disseminate and share information on areas of particular interest to all parties, including testing and certification of children's products, the mandatory toy standard, navigating compliance issues, and the fast track recall program. The Safety Academy is structured such that the morning programs are more basic in nature and are designed for those who may be unfamiliar with the CPSC and the agency's regulations. The afternoon session is designed for more complex issues. Regardless of any person's level of familiarity with the CPSC, the Safety Academy is an opportunity to ask questions about these regulations and meet with specialists and field staff.

Panels currently planned are: (Panel 1) CPSC Basics: Reporting Requirements, Processes, and Basic Regulations; (Panel 2) CPSC Processes continued, including Fast Track and Section 15; and (Panel 3) Flammable Fabrics, Drawstrings, and Sleepwear. The afternoon session will consist of these three panels: (Panel 4) Testing, Mandatory Testing, Component Parts Testing, and Certificates of Conformity; (Panel 5) Navigating the CPSC Import Process; and (Panel 6) F963-11 Toy Standards. The CPSC Safety Academy will be held from 8:00 a.m. to 4:00 p.m. on September 18, 2013, at the Henry M. Jackson Federal Building, North Auditorium, 915 2nd Avenue, Seattle, WA 98174.

If you would like to be a panel member for a specific session of the CPSC Safety Academy, you should register by June 10, 2013. (See the ADDRESSES portion of this document for the Web site link and instructions on where to register.) Prospective panelists will be asked to submit a brief (less than 200 word) abstract of your topic, area of expertise, and desired panel. If more individuals seek to be panelists for a particular session than time will allow, the CPSC Safety Academy planning committee will select panelists based on considerations such as: the individual's familiarity or expertise with the topic to be discussed; the practical utility of the information to be presented (such as a discussion of a specific topic or research area), the topic's relevance to the identified theme and topic area, and the individual's viewpoint or ability to represent certain interests (e.g., such as large manufacturers, small manufacturers, academic researchers, consumer organization). Although an effort will be made to accommodate all persons who wish to be panelists, we expect to limit each panel session to no more than five panelists. Therefore, the final number of panelists may be limited. We recommend that individuals and organizations with common interests consolidate or coordinate their panel requests. To assist in making final panelist selections, the CPSC Safety Academy planning committee may request potential panelists to submit presentations in addition to the initial abstract. We anticipate that we will notify those who are selected as panelists before August 15, 2013.

If you wish to attend and participate in the CPSC Safety Academy as a panelist or attendee you should register by September 9, 2013. The Safety Academy will not be available via webcast.

Dated: May 30, 2013.
Todd A. Stevenson,
Secretary, Consumer Product Safety Commission.

[FR Doc. 2013-13165 Filed 6-4-13; 8:45 am]

BILLING CODE 6355-01-P